DEPARTMENT OF ENERGY

Federal Energy Regulatory Commission

Combined Notice of Filings #1

June 19, 2006.

Take notice that the Commission received the following electric corporate filings:

Docket Numbers: EC06-130-000.

Applicants: Alcoa Inc.; Alcoa Power Generating Inc.; Alcoa Power Marketing, Inc.

Description: Application of Alcoa, Inc., Alcoa Power Generating, Inc. and Alcoa Power Marketing, Inc. for approval of corporate reorganization under section 203 of the Federal Power Act.

Filed Date: June 14, 2006.

Accession Number: 20060616-0190.

Comment Date: 5 p.m. Eastern Time on Wednesday, July 5, 2006.

Take notice that the Commission received the following exempt wholesale generator filings:

Docket Numbers: EG06-51-001.

Applicants: SAF Hydroelectric LLC.

Description: SAF Hydroelectric LLC submits the Notice of Self-Certification demonstrating that it is an Exempt Wholesale Generator.

Filed Date: June 12, 2006.

Accession Number: 20060616-0189.

Comment Date: 5 p.m. Eastern Time on Monday, July 3, 2006.

Take notice that the Commission received the following electric rate filings:

Docket Numbers: ER02-2551-003.

Applicants: Cargill Power Markets, LLC.

Description: Cargill Power Markets, LLC submits additional information about the construction commencement dates of a number of the generating facilities in which they own interest.

Filed Date: June 9, 2006.

Accession Number: 20060616-0179.

Comment Date: 5 p.m. Eastern Time on Thursday, June 29, 2006.

Docket Numbers: ER06-321-004.

Applicants: Midwest Independent Transmission System Operator, Inc.

Description: Midwest ISO submits a motion for leave to file compliance filing one day out of time and compliance filing on the Agreement.

Filed Date: June 13, 2006.

Accession Number: 20060615-0123.

Comment Date: 5 p.m. Eastern Time on Wednesday, July 5, 2006.

Docket Numbers: ER06-690-003.

Applicants: Midwest Independent Transmission System Operator, Inc.

Description: Midwest ISO submits compliance filing to revise Attachment HH (Dispute Resolution Procedures) of the Open Access Transmission & Energy Markets Tariff.

Filed Date: June 14, 2006.

Accession Number: 20060616-0181.

Comment Date: 5 p.m. Eastern Time on Wednesday, July 5, 2006.

Docket Numbers: ER06-785-001.

Applicants: Midwest Independent Transmission System Operator, Inc.

Description: Midwest Independent Transmission and Midwest ISO Transmission Owners submit its supplemental filing in response to FERC's request for additional information.

Filed Date: June 14, 2006.

Accession Number: 20060616-0182.

Comment Date: 5 p.m. Eastern Time on Wednesday, July 5, 2006.

Docket Numbers: ER06-788-001.

Applicants: Southern California Edison Company.

Description: Southern California Edison Co. submits additional information requested by FERC's May 26, 2006 letter order.

Filed Date: June 15, 2006.

Accession Number: 20060616-0051.

Comment Date: 5 p.m. Eastern Time on Thursday, July 6, 2006.

Docket Numbers: ER06-931-001; ER06-932-001.

Applicants: Black River Macro Discretionary Fund Ltd.; Black River Commodity Energy Fund LLC.

Description: Black River Commodity Energy Fund, LLC and Black River Macro Discretionary Fund Ltd. submit additional information concerning its lack of generation market power to its application filed on May 3, 2006.

Filed Date: June 9, 2006.

Accession Number: 20060616-0186.

Comment Date: 5 p.m. Eastern Time on Thursday, June 29, 2006.

Docket Numbers: ER06-955-001; ER06-956-001; ER06-957-001; ER06-1019-001; ER06-1020-001; ER06-1021-001; ER06-1022-001; ER06-1052-001; ER06-1053-001.

Applicants: American Transmission Company LLC.

Description: American Transmission Co., LLC's response to an informal request for information by FERC Staff regarding the filing of its nine Distribution Transmission Interconnection Agreements.

Filed Date: June 12, 2006.

Accession Number: 20060616-0297.

Comment Date: 5 p.m. Eastern Time on Monday, July 3, 2006.

Docket Numbers: ER06-1127-000.

Applicants: PJM Interconnection, LLC.

Description: PJM Interconnection, LLC submits a transmission service agreement with First Energy Solutions Corp for firm point to point transmission service.

Filed Date: June 14, 2006.

Accession Number: 20060615-0150.

Comment Date: 5 p.m. Eastern Time on Wednesday, July 5, 2006.

Docket Numbers: ER06-1129-000.

Applicants: Western Electricity Coordinating Council.

Description: Western Electricity Coordinating Council submits amended version of FERC Rate Schedule No. 1 reflecting changes to the WECC bylaws.

Filed Date: June 14, 2006.

Accession Number: 20060615-0151.

Comment Date: 5 p.m. Eastern Time on Wednesday, July 5, 2006.

Docket Numbers: ER06-1130-000.

Applicants: American Electric Power System Corporation.

Description: American Electric Power Service Corp. on behalf of its AEP Texas Central Co. submits a fully executed interconnection agreement with Valero Refining-Texas, LP.

Filed Date: June 13, 2006.

Accession Number: 20060615-0126.

Comment Date: 5 p.m. Eastern Time on Wednesday, July 5, 2006.

Docket Numbers: ER06-1131-000.

Applicants: LSP-Kendall Energy, LLC.

Description: LSP-Kendall Energy, LLC submits a rate schedule under which it specifies its revenue requirement for providing Reactive Support and Voltage Control from Generation Sources.

Filed Date: June 13, 2006.

Accession Number: 20060615-0125.

Comment Date: 5 p.m. Eastern Time on Wednesday, July 5, 2006.

Docket Numbers: ER06-1133-000.

Applicants: Central Hudson Gas & Electric Corporation.

Description: CH Energy Group Inc. submits a Notice of Cancellation of its Rate Schedule FERC No. 73, effective June 10, 2006.

Filed Date: June 14, 2006.

Accession Number: 20060616-0188.

Comment Date: 5 p.m. Eastern Time on Wednesday, July 5, 2006.

Docket Numbers: ER06-1134-000.

Applicants: Central Vermont Public Service Corporation.

Description: Central Vermont Public Service Corp submits notice of cancellation of Tariff No. 4 and the Tariff No. 1 Service Agreement terminating its FPC Electric Tariff, First Revised Volume No. 1.

Filed Date: June 14, 2006.

Accession Number: 20060616-0187.

Comment Date: 5 p.m. Eastern Time on Wednesday, July 5, 2006.

Docket Numbers: ER06-1135-000.

Applicants: EPCOR Energy Marketing (US) Inc.

Description: EPCOR Energy Marketing, Inc. submits application for Market-Based Rate Authority and for certain waivers and blanket approvals.

Filed Date: June 14, 2006.

Accession Number: 20060616-0185.

Comment Date: 5 p.m. Eastern Time on Wednesday, July 5, 2006.

Docket Numbers: ER06-1136-000.

Applicants: PJM Interconnection, L.L.C.

Description: PJM Interconnection, L.L.C. submits revisions to Schedule No. 2 of the PJM OATT to reflect the reallocation of Allegheny Energy Supply Co., L.L.C. et al. reactive power.

Filed Date: June 14, 2006.

Accession Number: 20060616-0184.

Comment Date: 5 p.m. Eastern Time on Wednesday, July 5, 2006.

Docket Numbers: ER06-1137-000.

Applicants: Tampa Electric Company.

Description: Tampa Electric Co. submits First Revised Sheet No. 41 and No. 50 to FERC Electric Tariff, First Revised Volume No 5, to be effective June 15, 2006.

Filed Date: June 14, 2006.

Accession Number: 20060616-0052.

Comment Date: 5 p.m. Eastern Time on Wednesday, July 5, 2006.

Take notice that the Commission received the following electric securities filings:

Docket Numbers: ES06-35-000; EC06-110-000.

Applicants: Entergy Services Inc.

Description: Entergy Services submits on behalf of its associate companies—Supplemental Information on Exhibit B to the Joint Application and request authorization for each application to issue and sell equity and long-term and short-term debt securities.

Filed Date: June 13, 2006.

Accession Number: 20060613-5037.

Comment Date: 5 p.m. Eastern Time on Wednesday, July 5, 2006.

Take notice that the Commission received the following public utility holding company filings:

Docket Numbers: PH06-77-000.

Applicants: Enbridge Gas Distribution Inc.

Description: Enbridge Gas Distribution Inc. submits its notification of exemption on Form FERC-65A.

Filed Date: June 14, 2006.

Accession Number: 20060615-0336.

Comment Date: 5 p.m. Eastern Time on Wednesday, July 5, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10129 Filed 6-27-06; 8:45 am]

BILLING CODE 6717-01-P